NUCLEAR REGULATORY COMMISSION

Public Meeting to Discuss Comments on Management Directive 8.11, “Review Process for 10 CFR 2.206 Petitions”

AGENCY: Nuclear Regulatory Commission

ACTION: Notice of Meeting

SUMMARY: The Nuclear Regulatory Commission is sponsoring a public meeting involving the Office of Enforcement, the Office of the General Counsel, the Office of Nuclear Material Safety and Safeguards, the Office of Nuclear Reactor Regulation, and any interested members of the public. The purpose of the meeting is to provide a forum to discuss public comments on Management Directive 8.11, “Review Process for 10 CFR 2.206 Petitions,” in response to a Federal Register notice dated October 7, 1999 (64 FR 54654). The staff plans to evaluate the comments received as part of an effort to improve the 10 CFR 2.206 petition process. The meeting is open to the public and all interested parties may attend.

DATES: February 10, 2000, from 8:00 a.m. to 12:00 noon.

LOCATION: One White Flint North, Room O-10B4, 11555 Rockville Pike, Rockville, Maryland 20852.

FOR FURTHER INFORMATION CONTACT: Andrew Kugler, Mail Stop O-4A15B, U.S. Nuclear Regulatory Commission, 11555 Rockville Pike, Rockville, MD 20852-2738; Telephone: (301) 415-2828; Internet:AJK1@NRC.GOV

For the Nuclear Regulatory Commission.
Andrew J. Kugler,
Project Manager, Section 1, Project Directorate III, Division of Licensing Project Management, Office of Nuclear Reactor Regulation.

[FR Doc. 00-1040 Filed 1-14-00; 8:45 am]

BILLING CODE 7590-01-P